DEPARTMENT OF HOMELAND SECURITY

Federal Emergency Management Agency

[Docket ID FEMA-2022-0002; Internal Agency Docket No. FEMA-B-2246]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Surprise (21-09-1794P) | The Honorable Skip Hall,Mayor, City of Surprise, 16000 North Civic Center Plaza, Surprise, AZ 85374 | Public Works Department, Engineering Development Services, 16000 North Civic Center Plaza, Surprise, AZ 85374 | https://msc.fema.gov/portal/advanceSearch | Sep. 9, 2022 | 040053
Maricopa | Unincorporated Areas of Maricopa County (21-09-1794P) | The Honorable Bill Gates, Chair, Board of Supervisors Maricopa County, 301 West Jefferson Street, 10th Floor, Phoenix, AZ 85003 | Flood Control District of Maricopa County, 2801 West Durango Street, Phoenix, AZ 85009 | https://msc.fema.gov/portal/advanceSearch | Sep. 9, 2022 | 040037
Santa Cruz | Unincorporated Areas of Santa Cruz County (21-09-1881P) | The Honorable Manuel Ruiz, Chair, Board of Supervisors, Santa Cruz County, 2150 North Congress Street, Suite 119, Nogales, AZ 85621 | Santa Cruz County Flood Control District, Gabilondo-Zehentner Building, 275 Rio Rico Drive, Rio Rico, AZ 85648 | https://msc.fema.gov/portal/advanceSearch | Sep. 6, 2022 | 040090
California:
Los Angeles | Unincorporated Areas of Los Angeles County (21-09-0650P) | The Honorable Holly J. Mitchell, Chair, Board of Supervisors, Los Angeles County, 500 West Temple Street, Room 866, Los Angeles, CA 90012 | Los Angeles County Public Works Headquarters, Watershed Management Division, 900 South Fremont Avenue, Alhambra, CA 91803 | https://msc.fema.gov/portal/advanceSearch | Sep. 6, 2022 | 065043
Riverside | City of Calimesa (21-09-0875P) | The Honorable William Davis,Mayor, City of Calimesa, 908 Park Avenue, Calimesa, CA 92320 | Planning Department, 908 Park Avenue, Calimesa, CA 92320 | https://msc.fema.gov/portal/advanceSearch | Aug. 8, 2022 | 060740
Riverside | City of Desert Hot Springs (21-09-1924P) | The Honorable Scott Matas, Mayor, City of Desert Hot Springs, 11999 Palm Drive, Desert Hot Springs, CA 92240 | Planning Department, 65950 Pierson Boulevard, Desert Hot Springs, CA 92240 | https://msc.fema.gov/portal/advanceSearch | Sep. 23, 2022 | 060251
Riverside | Unincorporated Areas of Riverside County (21-09-1924P) | The Honorable Jeff Hewitt, Chair, Board of Supervisors, Riverside County, 4080 Lemon Street,5th Floor, Riverside, CA 92501 | Riverside County Flood Control and Water Conservation District, 1995 Market Street, Riverside, CA 92501 | https://msc.fema.gov/portal/advanceSearch | Sep. 23, 2022 | 060245
Ventura | City of Oxnard (22-09-0194P) | The Honorable John C. Zaragoza, Mayor, City of Oxnard, 300 West 3rd Street, Oxnard, CA 93030 | Development Services Support Division, Service Center, 214 South C Street, Oxnard, CA 93030 | https://msc.fema.gov/portal/advanceSearch | Sep. 6, 2022 | 060417
Ventura | Unincorporated Areas of Ventura County (22-09-0194P) | The Honorable Carmen Ramirez, Chair, Board of Supervisors, Ventura County, 800 South Victoria Avenue, Ventura, CA 93009 | Ventura County Public Works Agency, 800 South Victoria Avenue, Ventura, CA 93009 | https://msc.fema.gov/portal/advanceSearch | Sep. 6, 2022 | 060413
Idaho: Ada | City of Boise (21-10-1267P) | The Honorable Lauren McLean, Mayor, City of Boise, P.O. Box 500, Boise, ID 83701 | City Hall, 150 North Capitol Boulevard, Boise, ID 83701 | https://msc.fema.gov/portal/advanceSearch | Sep. 14, 2022 | 160002
Florida: St. Johns | Unincorporated Areas of St. Johns County Florida (21-04-5482P) | Chair Henry Dean, St. Johns County Board of County Commissioners, 500 San Sebastian View, St. Augustine, FL 32084 | St. Johns County Administration Building, 4020 Lewis Speedway, St. Augustine, FL 32084 | https://msc.fema.gov/portal/advanceSearch | Sep. 13, 2022 | 125147
Idaho: Kootenai | Unincorporated Areas of Kootenai County (21-10-0970P) | Chair Chris Fillios, Commissioner District 2, Kootenai County, 451 Government Way, Coeur d'Alene, ID 83816 | Kootenai County Assessors Department, Kootenai County Court House, 451 Government Way, Coeur d'Alene, ID 83816 | https://msc.fema.gov/portal/advanceSearch | Sep. 14, 2022 | 160076
Illinois: Will | Village of Plainfield (22-05-0786P) | The Honorable John F. Argoudelis,Village President, Village of Plainfield, 24401 West Lockport Street, Plainfield, IL 60544 | Village Hall, 24401 West Lockport Street, Plainfield, IL 60544 | https://msc.fema.gov/portal/advanceSearch | Sep. 7, 2022 | 170771
Indiana: Tippecanoe | Unincorporated Areas of Tippecanoe County (21-05-3329P) | Commissioner Tom Murtaugh, Member, Tippecanoe County Board of Commissioners, 20 North 3rd Street, 1st Floor,Lafayette, IN 47901 | Tippecanoe County Office, 20 North 3rd Street, Lafayette, IN 47901 | https://msc.fema.gov/portal/advanceSearch | Sep. 13, 2022 | 180428
Kansas: Johnson | City of Mission (21-07-1200P) | Administrator Laura Smith, City of Mission, 6090 Woodson Road, Mission, KS 66202 | City Hall, 6090 Woodson Road,Mission, KS 66202 | https://msc.fema.gov/portal/advanceSearch | Sep. 14, 2022 | 200170
Nevada: Douglas | Unincorporated Areas of Douglas County (21-09-1466P) | The Honorable Mark Gardner, Chair, Board of Commissioners, Douglas County, P.O. Box 218, Minden, NV 89423 | Douglas County, Community Development, 1594 Esmeralda Avenue, Minden, NV 89423 | https://msc.fema.gov/portal/advanceSearch | Sep. 8, 2022 | 320008
Ohio: Lucas | City of Toledo (21-05-2785P) | The Honorable Wade Kapszukiewicz,Mayor, City of Toledo, 1 Government Center, 640 Jackson Street, Toledo, OH 43604 | Department of Inspection, 1 Government Center, Suite 1600, Toledo, OH 43604 | https://msc.fema.gov/portal/advanceSearch | Sep. 29, 2022 | 395373
Oregon: Lane | Unincorporated Areas of Lane County (22-10-0105P) | Commissioner Joe Berney, Lane County Board of County Commissioners, 125 East 8th Avenue, Eugene, OR 97401 | Lane County, Customer Service Center, 3050 North Delta Highway, Eugene, OR 97408 | https://msc.fema.gov/portal/advanceSearch | Aug. 26, 2022 | 415591
Texas: Travis | City of Austin (21-06-2164P) | The Honorable Steve Adler, Mayor, City of Austin, P.O. Box 1088, Austin, TX 78767 | Watershed Engineering Division, 505 Barton Springs Road, 12th Floor, Austin, TX 78704 | https://msc.fema.gov/portal/advanceSearch | Sep. 22, 2022 | 480624
Washington:
King | City of Issaquah (21-10-1197P) | The Honorable Mary Lou Pauly, Mayor, City of Issaquah, 130 East Sunset Way, Issaquah, WA 98027 | City Hall,1775 12th Avenue Northwest, Issaquah, WA 98027 | https://msc.fema.gov/portal/advanceSearch | Sep. 26, 2022 | 530079
Pierce | City of Puyallup (21-10-0191P) | The Honorable Dean Johnson,Mayor, City of Puyallup, City Hall, 333 South Meridian, Puyallup, WA 98371 | City Hall,333 South Meridian, Puyallup, WA 98371 | https://msc.fema.gov/portal/advanceSearch | Sep. 8, 2022 | 530144
Wisconsin: Milwaukee | City of Oak Creek (21-05-0691P) | The Honorable Daniel Bukiewicz, Mayor, City of Oak Creek, 8040 South 6th Street, Oak Creek, WI 53154 | City Hall, 8640 South Howell Avenue, Oak Creek, WI 53154 | https://msc.fema.gov/portal/advanceSearch | Aug. 25, 2022 | 550279

[FR Doc. 2022-13259 Filed 6-21-22; 8:45 am]

BILLING CODE 9110-12-P